DEPARTMENT OF HEALTH AND HUMAN SERVICES

National Institutes of Health

Submission for OMB Review; 30-Day Comment Request; International Research Fellowship Award Program of the (National Institute on Drug Abuse)

AGENCY: National Institutes of Health, HHS.

ACTION: Notice.

SUMMARY: In compliance with the requirement of the Paperwork Reduction Act of 1995, the National Institute on Drug Abuse (NIDA), National Institutes of Health (NIH) has submitted to the Office of Management and Budget (OMB) a request for review and approval of the information collection listed below.

DATES: Comments regarding this information collection are best assured of having their full effect if received within 30-days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To request more information on the proposed project or to obtain a copy of the data collection plans and instruments, contact: Dr. Steve Gust, Director, NIDA International Program, National Institute on Drug Abuse, National Institutes of Health, 6001 Executive Blvd., Bethesda, Maryland 20892-0234, or call non-toll-free number (301) 402-1118 or Email your request, including your address to: sgust@nida.nih.gov.

SUPPLEMENTARY INFORMATION: This proposed information collection was previously published in the Federal Register on December 14, 2018, page 64348 (83 FR 64348-FR 64349) and allowed 60 days for public comment. No public comments were received. The purpose of this notice is to allow an additional 30 days for public comment. The National Institute of Drug Abuse (NIDA), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: The International Research Fellowship Award Program, 0925-0733, expiration date 02/28/2019, REVISION, of the National Institute on Drug Abuse (NIDA), National Institutes of Health (NIH).

Need and Use of Information Collection: The purpose of this information collection is to identify participants for matriculation into the program. The proposed information is necessary to select the best applicants for the fellowship program. An application form to obtain information about the potential fellows for successful training in HIV and drug use research is necessary. The information ensures that fellows applying to these programs meet eligibility requirements for research and indicates their potential as future scientists.

OMB approval is requested for 3 years. There are no costs to respondents other than their time. The total estimated annualized burden hours are 60.

Estimated Annualized Burden Hours
Type of respondent | Form | Number of respondents | Number of responses per respondent | Average time per response (in hours) | Total annual burden hour
Applicant Scientists | Applicant Information | 45 | 1 | 1 | 45
Scientists | Mentor Information | 45 | 1 | 20/60 | 15
Total |  | 90 | 90 |  | 60

Dated: February 4, 2019.
Genevieve deAlmeida,
Project Clearance Liaison, National Institute on Drug Abuse, National Institutes of Health.

[FR Doc. 2019-02028 Filed 2-11-19; 8:45 am]

BILLING CODE 4140-01-P